DEPARTMENT OF COMMERCE

National Oceanic and Atmospheric Administration

RIN 0648-XZ31

Issuance of Permit Amendment: Marine Mammals; File No. 14603

AGENCY: National Marine Fisheries Service (NMFS), National Oceanic and Atmospheric Administration (NOAA), Commerce.

ACTION: Notice; issuance of permit amendment.

SUMMARY: Notice is hereby given that Charles Mayo, Ph.D., Senior Scientist and Director, Right Whale Program—Center for Coastal Studies, 115 Bradford St., Provincetown, MA 02657 has been issued a minor amendment to Scientific Permit No. 14603.

ADDRESSES: The amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Brendan Hurley or Amy Hapeman, (301) 427-8401.

SUPPLEMENTARY INFORMATION: The requested amendment has been granted under the authority of the Marine Mammal Protection Act of 1972, as amended (16 U.S.C. 1361 et seq.) and the regulations governing the taking and importing of marine mammals (50 CFR part 216), the Endangered Species Act of 1973, as amended (ESA; 16 U.S.C. 1531 et seq.), and the regulations governing the taking, importing, and exporting of endangered and threatened species (50 CFR parts 222-226).

The original permit (No. 14603), issued on September 9, 2010 (75 FR 61135) authorizes Dr. Mayo to study North Atlantic right whales (Eubalaena glacialis) off Massachusetts, New Hampshire, Maine, Rhode Island, Connecticut, New York, and New Jersey. The permitted activities include photo-identification, aerial and shipboard surveys, suction-cup tagging, photo-identification, sonar for prey mapping, passive acoustic recording, and behavioral observation (by vessel and aerial). Whales of all ages may be harassed during surveys. The permit also authorizes incidental harassment of unidentified baleen whales during research activities, and is authorized through September 30, 2015. The minor amendment (No. 14603-01) extends the duration of the permit through September 30, 2016 but does not change any other terms or conditions of the permit.

Dated: September 29, 2015.
Julia Harrison,
Chief, Permits and Conservation Division, Office of Protected Resources, National Marine Fisheries Service.

[FR Doc. 2015-25210 Filed 10-2-15; 8:45 am]

BILLING CODE 3510-22-P